FEDERAL HOUSING FINANCE AGENCY

[No. 2009-N-11]

Proposed Collection; Comment Request

AGENCY: Federal Housing Finance Agency.

ACTION: 30-day Notice of Submission of Information Collection for Approval from the Office of Management and Budget.

SUMMARY: In accordance with the requirements of the Paperwork Reduction Act of 1995, the Federal Housing Finance Agency (FHFA) is seeking public comments concerning a currently approved information collection known as “Community Support Requirements,” which has been assigned control number 2590-0005 by the Office of Management and Budget (OMB). Today FHFA will submit the information collection to OMB for review and approval of a three year extension of the control number, which is due to expire on September 30, 2009.

DATES: Interested persons may submit comments on or before September 17, 2009.

Comments: Submit comments to the Office of Information and Regulatory Affairs of the Office of Management and Budget, Attention: Desk Officer for the Federal Housing Finance Agency, Washington, DC 20503, Fax: 202-395-6974, E-mail address: OIRA_Submission@omb.eop.gov. Please also submit them to FHFA using any one of the following methods:

• E-mail: RegComments@fhfa.gov. Please include Proposed Collection; Comment Request: Community Support Requirements (No. 2009-N-11) in the subject line of the message.

• Mail/Hand Delivery: Federal Housing Finance Agency, Fourth Floor, 1700 G Street, NW., Washington, DC 20552, Attention: Public Comments/Proposed Collection; Comment Request: “Community Support Requirements,” (No. 2009-N-11).

• Federal eRulemaking Portal: http://www.regulations.gov. Follow the instructions for submitting comments.

We will post all public comments we receive without change, including any personal information you provide, such as your name and address, on the FHFA Web site at http://www.fhfa.gov. Send requests for copies of the Community Support Statement Form and supporting documentation to the contact referenced in the FOR FURTHER INFORMATION CONTACT section.

FOR FURTHER INFORMATION CONTACT: R. Reginald Ellison, Senior Program Analyst, 202-408-2968 (not a toll-free number), Reggie.Ellison@fhfa.gov. The telephone number for the Telecommunications Device for the Deaf is 800-877-8339.

SUPPLEMENTARY INFORMATION:

A. Need For and Use of the Information Collection

Section 10(g)(1) of the Federal Home Loan Bank Act (Bank Act) requires the FHFA to promulgate regulations establishing standards of community investment or service that Federal Home Loan Bank (Bank) members must meet in order to maintain access to long-term advances. See 12 U.S.C. 1430(g)(1). In establishing these community support requirements for Bank members, the FHFA must take into account factors such as the Bank member's performance under the Community Reinvestment Act of 1977 (CRA), 12 U.S.C. 2901, et seq., and record of lending to first-time homebuyers. 12 U.S.C. 1430(g)(2). 12 CFR part 944 implements section 10(g) of the Bank Act. See 12 CFR part 944. The rule provides uniform community support standards all Bank members must meet and review criteria FHFA staff must apply to determine compliance with section 10(g). More specifically, § 944.2 of the rule (12 CFR 944.2) implements the statutory community support requirement and requires each member selected for review to submit a completed Community Support Statement Form to the FHFA. The community support standards for the two statutory factors are found in § 944.3 (12 CFR 944.3)—CRA and first-time homebuyer performance—this provision also provides guidance to a respondent on how it may satisfy the standards . The procedures and criteria FHFA uses in determining whether Bank members satisfy the statutory and regulatory community support requirements are found in §§ 944.4 and 944.5 (12 CFR 944.4 through 944.5)

The information collection contained in the Community Support Statement Form and §§ 944.2 through 944.5 of the rule are necessary to enable and are used by the FHFA to determine whether Bank members satisfy the statutory and regulatory community support requirements. Only Bank members that meet these requirements may maintain continued access to long-term Bank advances. See 12 U.S.C. 1430(g).

The OMB number for the information collection is 2590-0005. The OMB clearance for the information collection expires on September 30, 2009. The likely respondents are institutions that are Bank members.

B. Burden Estimate

The FHFA estimates the total annual average number of respondents at 4100 Bank members, with 1 response per member. The estimate for the average hours per response is one hour. The estimate for the total annual hour burden is 4100 hours (4100 members × 1 response per member × 1 hour).

C. Comment Request

The FHFA requests written comments on the following: (1) Whether the collection of information is necessary for the proper performance of FHFA functions, including whether the information has practical utility; (2) The accuracy of the FHFA estimates of the burdens of the collection of information; (3) Ways to enhance the quality, utility and clarity of the information collected; and (4) Ways to minimize the burden of the collection of information, including through the use of automated collection techniques or other forms of information technology.

Dated: August 13, 2009.
James B. Lockhart III,
Director, Federal Housing Finance Agency.

[FR Doc. E9-19776 Filed 8-17-09; 8:45 am]

BILLING CODE 8070-01-P